SMALL BUSINESS ADMINISTRATION

[Disaster Declaration # 14467 and # 14468]

Colorado Disaster # CO-00073

AGENCY: U.S. Small Business Administration.

ACTION: Amendment 1.

SUMMARY: This is an amendment of the Administrative disaster declaration for the State of COLORADO dated 09/16/2015.

Incident: Landslides.

Incident Period: 04/24/2015 and continuing through 11/16/2015.

Effective Date: 11/19/2015.

Physical Loan Application Deadline Date: 11/16/2015.

Economic Injury (EIDL) Loan Application Deadline Date: 06/16/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Administrative disaster declaration for the State of Colorado, dated 09/16/2015 is hereby amended to establish the incident period for this disaster as beginning 04/24/2015 and continuing through 11/16/2015.

All other information in the original declaration remains unchanged.

(Catalog of Federal Domestic Assistance Numbers 59002 and 59008)

Dated: November 19, 2015.
Maria Contreras-Sweet,
Administrator.

[FR Doc. 2015-30233 Filed 11-25-15; 8:45 am]

BILLING CODE 8025-01-P